DEPARTMENT OF HOUSING AND URBAN DEVELOPMENT

[Docket No. FR-5300-N-27]

Notice of Availability: Notice of Funding Availability (NOFA) for Fiscal Year (FY) 2009 Tribal Colleges and Universities Program

AGENCY: Office of the Assistant Secretary for Policy Development and Research, HUD.

ACTION: Notice.

SUMMARY: Through this notice, HUD announces the availability on its Web site of the application information, submission deadlines, funding criteria, and other requirements for the FY2009 Tribal Colleges and Universities Program NOFA. This NOFA makes approximately $5 million available to assist Tribal Colleges and Universities (TCU) to build, expand, renovate, and equip their own facilities, and to expand the role of the TCUs into the community through the provision of needed services such as health programs, job training, and economic development activities. The notice providing information regarding the application process, funding criteria and eligibility requirements is available on the HUD Web site at http://www.hud.gov/offices/adm/grants/fundsavail.cfm.

FOR FURTHER INFORMATION CONTACT: For information concerning the Tribal Colleges and Universities Program, contact Sherone Ivey, Office of University Partnerships, Office of Policy Development and Research, Department of Housing and Urban Development, 451 Seventh Street, SW., Room 8226, Washington DC 20410; telephone 202-402-4200 (this is not a toll-free number). Persons with speech or hearing impairments may access this telephone number via TTY by calling the toll-free Federal Information Relay Service during working hours at 800-877-8339.

Dated: June 9, 2009.
Jean Lin Pao,
General Deputy Assistant Secretary for Policy Development and Research.

[FR Doc. E9-15560 Filed 6-26-09; 4:15 pm]

BILLING CODE 4210-67-P